DEPARTMENT OF ENERGY

Federal Energy Regulatory Commission

[Docket No. AD06-6-000]

Joint Meeting of the Nuclear Regulatory Commission and the Federal Energy Regulatory Commission; Notice of Joint Meeting of the Nuclear Regulatory Commission and the Federal Energy Regulatory Commission

November 29, 2006.

The Federal Energy Regulatory Commission (FERC) and the Nuclear Regulatory Commission (NRC) will hold a joint meeting on Tuesday, January 23, 2007 at the headquarters of the NRC, One White Flint North, 11555 Rockville Pike, Rockville, Maryland 20852. The meeting is expected to begin at 1:30 p.m. and conclude at 3:30 p.m. eastern standard time.

Purpose of the Meeting

The NRC and FERC signed a Memorandum of Agreement on September 1, 2004, to facilitate interactions between the two agencies on matters of mutual interest pertaining to the nation's bulk power system reliability.

Earlier, on April 24, 2006, the two agencies held a joint meeting at the headquarters of FERC to begin dialogue in furtherance of the goals set forth in the September 1, 2004 FERC-NRC Memorandum of Agreement. That meeting included presentations by staff of both agencies and initiated a series of questions to be answered by the respective agencies that addressed grid reliability issues and the roles of the agencies in addressing those issues.

Format for Joint Meeting of Commissions

The format for the joint meeting will be discussions between the two sets of Commissioners following presentations by their respective staffs. In addition, representatives of the North American Electric Reliability Council (NERC) and the U.S. Department of Energy (DOE) may attend and participate in this meeting.

A free Webcast of this event will be made available through the NRC Web site, at http://www.nrc.gov. In addition, the event will be transcribed and the transcription will be made available through the NRC Web site approximately three business days after the meeting.

All interested persons are invited. Pre-registration is not required and there is no fee to attend this joint meeting. Questions about the meeting should be directed to Sarah McKinley at Sarah.McKinley@ferc.gov or by phone at 202-502-8004.

Magalie R. Salas,
Secretary.

[FR Doc. E6-20607 Filed 12-5-06; 8:45 am]

BILLING CODE 6717-01-P